DEPARTMENT OF ENERGY

Office of Energy Efficiency and Renewable Energy

[Docket No. EERE-2014-BT-NOA-0016]

Physical Characterization of Grid-Connected Commercial and Residential Buildings End-Use Equipment and Appliances

AGENCY: Office of Energy Efficiency and Renewable Energy, Department of Energy.

ACTION: Notice of public meeting.

SUMMARY: The U.S. Department of Energy (DOE) is soliciting comment from the public on a draft framework for the physical characterization of grid-connected commercial and residential buildings end-use equipment and appliances. To inform interested parties and to facilitate this data-gathering process, DOE will hold a public meeting for stakeholders to discuss a draft framework for physical characterization of grid-connected commercial and residential buildings end-use equipment and appliances, including but not limited to processes and metrics for measurement, identification of grid and building services that can be provided, and a process for developing an initial list of products to consider. The public meeting will also allow DOE to gather input on topics related to grid-connected equipment, allow stakeholder groups to engage, and provide an opportunity to allow interested parties to provide published work and studies related to these issues.

DATES: Meeting: DOE will hold a public meeting on July 11, 2014, from 9:00 a.m. to 1:00 p.m. Eastern Standard Time in Washington, DC.

ADDRESSES: Unless otherwise specified in a subsequent Federal Register notice and official email, the public meeting will be held at the U.S. Department of Energy, room 8E-089, 1000 Independence Ave. SW., Washington, DC 20585. Please note admittance instructions in section II., Public Participation, under the SUPPLEMENTARY INFORMATION section of this notice.

Interested parties are encouraged to submit comments electronically. However, comments may be submitted by any of the following methods:

• Email: ConnectedBuildings2014NOA0016@ee.doe.gov. Include docket number EERE-2014-BT-NOA-0016 in the subject line of the message. All comments should clearly identify the name, address, and, if appropriate, organization of the commenter. Submit electronic comments in WordPerfect, Microsoft Word, PDF, or ASCII file format, and avoid the use of special characters or any form of encryption.

• Postal Mail: Mr. Joseph Hagerman, U.S. Department of Energy, Building Technologies Office, Mailstop EE-5B 1000 Independence Avenue SW., Washington, DC 20585-0121. If possible, please submit all items on a compact disc (CD), in which case it is not necessary to include printed copies. (Please note that comments sent by mail are often delayed and may be damaged by mail screening processes.)

• Hand Delivery/Courier: Mr. Joseph Hagerman, U.S. Department of Energy, Building Technologies Program, Sixth Floor, 950 L'Enfant Plaza SW., Washington, DC 20024. Telephone: (202) 586-2945. If possible, please submit all items on a CD, in which case it is not necessary to include printed copies.

Instructions: All submissions received must include the agency name and docket number for this public meeting. No telefacsimilies (faxes) will be accepted.

For information on how to submit a comment, review other public comments and the docket, or participate in the public meeting, contact Emily Marchetti at (202) 586-1824 or by email: emily.marchetti@ee.doe.gov.

FOR FURTHER INFORMATION CONTACT: Mr. Joseph Hagerman, U.S. Department of Energy, Office of Building Technologies (EE-5B), 950 L'Enfant Plaza SW., Washington, DC 20024. Phone: (202) 586-4549. Email: joseph.hagerman@ee.doe.gov.

SUPPLEMENTARY INFORMATION:

I. Issues on Which DOE Seeks Comment

In order to gather public input on the physical characterization of grid-connected commercial and residential buildings equipment and appliances, DOE is holding a public meeting on July 11, 2014 at DOE in Washington, DC. The agenda is expected to include the following discussion items:

• Presentation of a draft “straw man” framework with test protocols for the physical characterization of grid-connected buildings equipment;

• Services (use cases) grid-connected buildings equipment can provide;

• Candidate metrics to characterize smart and grid-connected buildings equipment;

• Applying the framework at the Energy Systems Integration Facility at NREL.

• Other topics related to smart and grid-connected equipment that DOE should consider;

Grid connected water heaters are subject to an ongoing rulemaking proceeding and will not be discussed at the meeting.

Note that agenda items may change without notice. The final agenda will be posted on the DOE Web site at: http://energy.gov/eere/buildings/buildings-grid-integration.

DOE considers public participation very important in gathering information. Interactions with and among members of the public provide a balanced discussion of the issues and assist DOE in making objective determinations. DOE requests comment on a draft framework for the physical characterization of grid-connected commercial and residential buildings equipment and appliances at the public meeting, or submitted in writing before or after the meeting, but no later than Friday August 8, 2014. See the following section II for additional information on public participation.

II. Public Participation

To register for the meeting, email emily.marchetti@ee.doe.gov. In the email, please indicate your name, organization (if appropriate), citizenship, and contact information. Please note that foreign nationals visiting DOE Headquarters are subject to advance security screening procedures. Any foreign national wishing to participate in the meeting should register as soon as possible by emailing emily.marchetti@ee.doe.gov to initiate the necessary procedures. Anyone attending the meeting will be required to present a government photo identification, such as a passport, driver's license, or government identification. Due to the required security screening upon entry, individuals attending should arrive early to allow for the extra time needed.

Issued in Washington, DC, on May 30, 2014.
Kathleen Hogan,
Deputy Assistant Secretary for Energy Efficiency, Energy Efficiency and Renewable Energy.

[FR Doc. 2014-13051 Filed 6-4-14; 8:45 am]

BILLING CODE 6450-01-P